DEPARTMENT OF LABOR

Office of the Secretary

[Secretary's Order 10-2006]

The Role of the Regional Representatives

1. Purpose and Background. This Order supersedes Secretary's Order 5-87 and updates the responsibilities assigned to the Regional Representatives. The Regional Representatives were formally known as, and referred to in that Order as Secretary's Representatives.

2. Definition of Roles and Assignment of Responsibilities.

A. The Assistant Secretary for Congressional and Intergovernmental Affairs has been delegated authority and assigned responsibility for the supervision and direction of the activities of the Regional Representatives.

B. Duties of the Regional Representatives.

(1) Establishing liaison with stakeholders, including business, labor, non-profits, and other community organizations.

(2) Establishing liaison with Governors and State and local officials.

(3) Providing the point of contact in departmental regional offices for members of Congress or their representatives, Governors and other state and local officials regarding non-agency specific and department-wide initiatives.

(4) Referring people seeking assistance or information to the appropriate regional or national DOL agency officials.

(5) Carrying out special, non-recurring projects and assignments on behalf of the Secretary, the Assistant Secretary for Congressional and Intergovernmental Affairs, and other national office officials as assigned.

(6) Participating as a member of the DOL Regional Executive Committee.

(7) Meeting as needed with regional representatives of other Federal agencies.

(8) Participating in the planning and implementation of activities of DOL agencies regarding region-wide or major meetings, conferences, forums, and other gatherings, particularly those involving Federal government officials, State, local and labor organizations.

(9) Monitoring non-routine correspondence with Congressional offices, Governors' offices, and other elected State and local officials to identify trends and problem areas and initiating action as appropriate. Referring agency correspondence as appropriate.

(10) Monitoring local and regional media for items of special interest to the Department.

(11) Performing other duties as assigned.

C. The DOL Agency Heads are responsible for:

(1) Ensuring that their regional agency heads regularly advise, coordinate and consult with the Regional Representatives on all major problems, issues and initiatives in the region, including supplying relevant program and policy information.

(2) Ensuring that regional agency heads coordinate planning and scheduling of region-wide or major meetings, conferences, forums and other related events with the Regional Representatives. Ensuring that senior regional officials provide the Regional Representatives advance notice of major constituent visits and meetings with elected officials.

D. The DOL Regional Agency Heads are responsible for:

(1) Informing the Regional Representatives in their region of pertinent matters as they occur, including supplying important program and policy information.

(2) Providing the Regional Representatives in their region with copies of non-routine correspondence to and from Congressional offices, Governors, and State and local elected officials.

(3) Coordinating planning and scheduling of region-wide or major meetings, conferences, forums and other related events with the Regional Representatives in their region, as well as advance notice of major constituent visits and meetings with elected officials.

(4) Advising the Regional Representative in their region of the approval of funding of projects under their program areas in advance of public announcement when possible.

(5) Informing the Regional Representatives in their region of any other pertinent matters as they occur.

3. Directives Affected.

A. Secretary's Order No. 5-87 is cancelled.

B. Section 4(b) of Secretary's Order 7-89 (“Delegation of Authority and Assignment of Responsibility to the Assistant Secretary for Congressional and Intergovernmental Affairs and to the Assistant Secretary for Public Affairs”) is modified by deleting “Secretary's Representative-at-Large and the Secretary's Representatives in the Regions” and substituting “Regional Representatives.”

C. The use of the term “Secretary's Representative” in any other Secretary's Order shall be replaced by “Regional Representative.”

4. Reservations of Authority.

A. This Secretary's Order does not affect the authorities and responsibilities of the Office of the Inspector General under the Inspector General Act of 1978, as amended, or Secretary's Order 04-2006 (February 21, 2006).

B. No delegation of authority or assignment of responsibility under this Order will be deemed to affect the Secretary's authority to continue to exercise or further delegate such authority or responsibility.

5. Effective Date. This order is effective immediately.

Dated: October 2, 2006.
Elaine L. Chao,
Secretary of Labor.

[FR Doc. 06-8663 Filed 10-13-06; 8:45 am]

BILLING CODE 4510-23-P